CORPORATION FOR NATIONAL AND COMMUNITY SERVICE

Proposed Information Collection Renewal; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed revision of its Forbearance Request for National Service Form (OMB Number 3045-0030). Copies of the forms can be obtained by contacting the office listed below in the ADDRESSES section of this notice.

DATES: Written comments must be submitted to the office listed in the ADDRESSES section by April 26, 2005.

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

ADDRESSES: You may submit written input to the Corporation by any of the following methods:

(1) Electronically through the Corporation's e-mail address system to Bruce Kellogg at Bkellogg@cns.gov.

(2) By fax to (202) 565-2742, Attention Mr. Bruce Kellogg.

(3) By mail sent to: Corporation for National and Community Service, National Service Trust Office, 8th Floor, Attn: Mr. Bruce Kellogg, 1201 New York Avenue NW., Washington, DC 20525.

(4) By hand delivery or by courier to the Corporation's mailroom at Room 6010 at the mail address given in paragraph (3) above, between 9 a.m. and 4 p.m. Monday through Friday, except Federal holidays.

Send comments to Bruce Kellogg, National Service Trust, Corporation for National and Community Service, 1201 New York Ave., NW., Washington, DC, 20525.

FOR FURTHER INFORMATION CONTACT: Bruce Kellogg, (202) 606-5000, ext. 526.

SUPPLEMENTARY INFORMATION:

I. Background

The Corporation for National and Community Service supports programs that provide opportunities for individuals who want to become involved in national service. The service opportunities cover a wide range of activities over varying periods of time. After successfully completing a period of national service in an AmeriCorps project, an AmeriCorps member receives an “education award” that can be used to repay qualified student loans or pay for post secondary educational expenses. This award is an amount of money set aside in the member's “account” in the National Service Trust Fund. Members have seven years in which to draw against any unused balance.

By law, during the period of time the AmeriCorps members are participating in national service, they are eligible for a postponement (specifically, a forbearance) on the repayment of many federal student loans, and possibly on other student loans they have as well. The purpose of this is to temporarily suspend their obligation to make loan payments while they are earning a minimal living allowance in their national service position. Interest may continue to accrue during this period, but payments are not required.

In order for a loan holder to make a decision regarding the granting of certain types of forbearances and deferments, it requires proof that the borrower meets the criteria for obtaining the particular type of postponement. For example, for verification of military service or student status, certification made by an authorized military or school official attests that the conditions for the postponement are being met.

The purpose of the enclosed Forbearance Request for National Service Form is to provide AmeriCorps members a vehicle for requesting this forbearance. It also serves as a method for the participating programs to verify that the individual is serving in an approved national service position, thereby meeting the criteria for the mandatory forbearance based on national service.

II. Current Action

Currently, AmeriCorps members use an OMB-approved form titled Forbearance Request for National Service to obtain certification that they are eligible for forbearance based on their service. The form also serves as the borrower's official request to their loan companies for forbearance. Only the loan holder can grant forbearance.

The current form has been adopted by many of the larger loan holders (e.g., Sallie Mae) and is given to their borrowers with the loan holders' own logo at the top of the forms. The form was originally developed with the assistance of representatives of several student loan associations. Having a separate form for forbearance based on AmeriCorps service clearly distinguishes it from forbearance requests based on one of the other conditions for which a borrower may be eligible—e.g., military service, employment in certain low income areas, or student status.

The Corporation for National and Community Service seeks to continue using this particular form, albeit in a revised version. Along with minor formatting changes, such as replacing boxes with lines for the member's name and SSN to enhance legibility, the one significant modification designates the authorized program official as the certifying official for this form, in place of the National Service Trust official. Program certifying officials currently certify member enrollments and exits, and authorize education awards. Certifying, including verifying member information, signing, and mailing takes one minute per form. As the estimate for the member to complete that portion of the form is generous, the changes impose no additional burden.

The Corporation seeks to continue using this particular form, albeit in a revised version. The current form is due to expire May 31, 2005.

Type of Review: Renewal.

Agency: Corporation for National and Community Service.

Title: Forbearance Request for National Service Form.

OMB Number: 3045-0030.

Agency Number: None.

Affected Public: Individuals who have enrolled in a term of national service who wish to postpone loan payments on qualified loans while they serve.

Total Respondents: 16,000 responses annually (estimated annual average over the next three years).

Frequency: Experience has shown that some members do not have any qualified student loans and others have several).

Average Time Per Response: Total of 10 minutes (nine minutes for the AmeriCorps member's section and one minute for certification).

Estimated Total Burden Hours: 2,667 hours.

Total Burden Cost (capital/startup): None.

Total Burden Cost (operating/maintenance): None.

Comments submitted in response to this notice will be summarized and/or included in the request for Office of Management and Budget approval of the information collection request; they will also become a matter of public record.

Dated: February 17, 2005.
Ruben Wiley,
Manager, National Service Trust.

[FR Doc. 05-3602 Filed 2-24-05; 8:45 am]

BILLING CODE 6050-$$-P